DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for public transportation projects in the following metropolitan areas: Eugene, Oregon; Fort Myers, Florida; Houston, Texas; and New York, New York. The purpose of this notice is to announce publicly the environmental decisions by FTA on the subject projects and to activate the limitation on any claims that may challenge these final environmental actions.

DATES: By this notice, FTA is advising the public of final agency actions subject to Title 23, United States Code (U.S.C.), section139(l). A claim seeking judicial review of the FTA actions announced herein for the listed public transportation projects will be barred unless the claim is filed on or before October 29, 2007.

FOR FURTHER INFORMATION CONTACT: Joseph Ossi, Environmental Protection Specialist, Office of Planning and Environment, 202-366-1613, or Christopher Van Wyk, Office of Chief Counsel, 202-366-1733. FTA is located at 1200 New Jersey Avenue, SE., Washington, DC 20590. Office hours are from 9 a.m. to 5:30 p.m., e.t., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (ROD) or Findings of No Significant Impact (FONSI)—for the listed projects are available online at http://www.fta.dot.gov/planning/environment/planning_environment_documents.html or may be obtained by contacting the FTA Regional Office for the metropolitan area where the project is located. Contact information for the FTA Regional Offices may be found at http://www.fta.dot.gov.

This notice applies to all FTA decisions on the listed projects as of the issuance date of this notice and all laws under which such actions were taken, including, but not limited to, the National Environmental Policy Act (NEPA) [42 U.S.C. 4321-4375], Section 4(f) of the Department of Transportation Act of 1966 [49 U.S.C. 303], Section 106 of the National Historic Preservation Act [16 U.S.C. 470f], and the Clean Air Act [42 U.S.C. 7401-7671q].

The projects and actions that are the subject of this notice are:

1. Project name and location: Bus Rapid Transit System Improvements for the Pioneer Parkway Corridor; Eugene, Oregon. Project sponsor: Lane Transit District (LTD). Project description: The Pioneer Parkway bus rapid transit (BRT) project consists of construction of 5.2 miles of exclusive transit lanes and 14 transit stations. The southern part of the project alignment would follow Pioneer Parkway, utilizing portions of an abandoned railroad right-of-way. The existing pedestrian and bicycle path in this corridor will be maintained. Along the northern loop, a single lane will be located in the median of Martin Luther King Jr. Parkway. On RiverBend Drive and International Way, the BRT buses will operate in the median. On Gateway Street and Harlow Road, the BRT buses will operate in mixed traffic. Final agency actions: FONSI issued on December 22, 2006; Section 106 Finding of No Adverse Effect; project-level Air Quality Conformity determination. Supporting documentation: Environmental Assessment: Bus Rapid Transit System Improvements for the Pioneer Parkway Corridor issued in September 2006.

2. Project name and location: LeeTran Transit Facility; Fort Myers, Florida. Project sponsor: Lee County Transit (LeeTran). Project description: The project is the construction of a new transit facility for LeeTran, which would house administrative functions, service operations, and bus maintenance functions and facilities. The facility would also accommodate passenger transfers and a customer service area. Final agency actions: FONSI issued on August 31, 2006; Section 106 Finding of No Historic Property Affected. Supporting documentation: Final Environmental Assessment: LeeTran Transit Facility, July 2006.

3. Project name and location: METRO Intermodal Terminal; Houston, Texas. Project sponsor: Metropolitan Transit Authority of Harris County (METRO). Project description: The project is the construction of a multimodal, multi-use, multi-story transit facility adjacent to the Near Northside neighborhood of downtown Houston. It will act as a major transit hub for the area, enabling transit riders to transfer easily between the different modes of transit. The facility will house passenger waiting and transfer facilities; bicycle storage facilities; and passenger and driver amenities, including parking, public restrooms, and retail space. Final agency action: FONSI issued on January 10, 2007; Section 4(f) finding; Section 106 Memorandum of Agreement. Supporting documentation: Final Environmental Assessment: Intermodal Terminal, December 2006.

4. Project name and location: North Corridor Fixed Guideway Transit Project; Houston, Texas. Project name and sponsor: Metropolitan Transit Authority of Harris County (METRO). Project description: The project is the construction of approximately 5.5 miles of fixed guideway transit consisting of: (1) An extension of the existing light rail transit (LRT) Red line from the University of Houston-Downtown Station to the new Burnett Station following the North Main Street right-of-way; and (2) from the Burnett Station, a new Bus Rapid Transit (BRT) line, proceeding north on North Main Street in mixed flow traffic for 0.3 mile and then entering an exclusive guideway in the middle of North Main Street. The BRT line will continue north in the North Main Street right-of-way to Boundary Street, where it will turn east and follow Boundary Street to Fulton Street. At Fulton Street, the BRT Line will turn north and proceed to Northline Mall. The project includes six at-grade transit stations and one elevated station at Burnett Street. Final agency actions: ROD issued on February 2, 2007; Section 4(f) finding; Section 106 Memorandum of Agreement; project-level Air Quality Conformity determination. Supporting documentation: North Corridor Fixed Guideway Project: Final Environmental Impact Statement issued on December 29, 2006.

5. Project name and location: Southeast Corridor Fixed Guideway Transit Project; Houston, Texas. Project sponsor: Metropolitan Transit Authority of Harris County (METRO). Project description: The project is the construction of a Bus Rapid Transit (BRT) line that will operate between downtown Houston and a terminus on Griggs Road at Beekman Road east of Martin Luther King Boulevard, a distance of approximately 6 miles. The BRT line will connect downtown Houston with the universities area including Texas Southern University and the University of Houston, and the Palm Center. The BRT service will operate in diamond lanes in downtown from Louisiana to Polk Street and in exclusive transit lanes on Scott Street, Wheeler Street, Martin Luther King Boulevard, and Griggs Road to the terminus at Beekman Road. The project includes 11 BRT stations. Final agency actions: ROD issued on February 6, 2007; Section 4(f) finding; Section 4(f) de minimis impact finding; Section 106 Memorandum of Agreement; project-level Air Quality Conformity determination. Supporting documentation: Southeast Corridor Fixed Guideway Project: Final Environmental Impact Statement issued on January 5, 2007.

6. Project name and location: World Trade Center Vehicular Security Center and Tour Bus Parking Facility; New York, New York. Project name and sponsor: Port Authority of New York and New Jersey. Project description: The World Trade Center (WTC) Vehicular Security Center and Tour Bus Parking Facility to be constructed at Ground Zero in Lower Manhattan will provide security precautions to protect new public investments at the WTC site. The project will also include a subsurface parking facility to serve tour buses bringing visitors to the memorial at the WTC site. The security center will provide off-street screening of buses, trucks, and automobiles entering the WTC site. The visible security location will lend a level of protection against threats to the WTC site. The project will also allow delivery truck access to subgrade loading areas for Towers 3, 4, and 5 on the WTC site. The project will be built on 4 levels. The entrance/exit will be located on the south side of Liberty Street between Route 9A and Greenwich Street. The roof of the facility will be at street-level and will be the base of the future Liberty Park and St. Nicholas Church. The security center will be located underground on the B1 level. Once vehicles have been properly screened, those that comply with security standards will be directed to a common ramp structure. The vehicles that do not meet the requirements of the security screen will be exited onto Liberty Street. Authorized trucks, buses, and automobiles will continue downward through the B2 level to the B3 level of the WTC site. The B3 level will include a consolidated loading area beneath Towers 3 and 4 as well as tour bus parking. The project will also include ancillary facilities and systems, such as employee spaces, mechanical rooms, emergency egress, and ventilation structures. Final agency actions: FONSI issued on January 26, 2007; Section 4(f) finding; Section 106 Memorandum of Agreement. Supporting documentation: Environmental Assessment: WTC Vehicular Security Center and Tour Bus Parking Facility, November 2006.

7. Project name and location: Long Island Rail Road East Side Access—50th Street Facility; New York, New York. Project sponsors: Metropolitan Transportation Authority, Long Island Rail Road (LIRR). Project description: The project is a new above-ground structure on East 50th Street housing the ventilation equipment, ventilation shafts and openings, emergency generators, and a loading dock for the LIRR East Side Access (ESA) project. The facility is a modification of the original design of the LIRR ESA project presented in its Final Environmental Impact Statement of March 16, 2001. A new building replacing the existing buildings at the project site will house the ventilation facility, loading docks, and freight elevators. The sub-basements below the new surface structure will connect to the new LIRR concourse and tunnels that are part of the ESA project. At street level, an area of open space and a through drive from 49th Street to 50th Street are included in the design. The project also includes, on an adjacent building, a cooling tower and a chase to house conduits and pipes. Final agency actions: FONSI issued on July 27, 2006; Section 106 Amended Programmatic Agreement. Supporting documentation: Revised Supplemental Environmental Assessment, LIRR East Side Access 50th Street Facility, April 2006.

Issued on: April 25, 2007.
Susan Borinsky,
Associate Administrator for Planning and Environment, Washington, DC.

[FR Doc. E7-8446 Filed 5-1-07; 8:45 am]

BILLING CODE 4910-57-P